FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)-523-5793 or tradeanalysis@fmc.gov.

Agreement No.: 012463-002.

Title: Maersk/MSC/HMM Strategic Cooperation Agreement.

Parties: Maersk Line A/S, Mediterranean Shipping Company S.A., and Hyundai Merchant Marine Co., Ltd.

Filing Party: Wayne Rohde; Cozen O'Connor; 1200 19th Street NW, Washington, DC 20036.

Synopsis: The amendment deletes the trade between North Europe and the U.S. Atlantic Coast from the scope of the Agreement and removes all provisions related to that trade from the Agreement. The amendment also increases the amount of space to be exchanged by the parties in the FE-USWC trade and the amount of space to be chartered in the FE-USEC trade. Finally, it reflects an increase in the number and size of vessels to be operated by HMM.

Agreement No.: 012476-001.

Title: Maersk/HLAG/CMA CGM ECUS-WCSA Slot Charter Agreement.

Parties: Maersk Line A/S, Hapag-Lloyd AG, and CMA CGM S.A.

Filing Party: Wayne Rohde; Cozen O'Connor; 1200 19th Street NW, Washington, DC 20036.

Synopsis: The amendment deletes Hamburg Sudamerkanische Dampschifffahrts-Gesellschaft KG as a party and replaces it with Maersk Line A/S, extends the initial term of the Agreement, changes the name of the Agreement, and restates the Agreement.

Agreement No.: 201251.

Title: Hapag-Lloyd/Maersk Line Slot Exchange Agreement.

Parties: Hapag- Lloyd AG and Maersk Line A/S.

Filing Party: Wayne Rohde; Cozen O'Connor; 1200 19th Street NW, Washington, DC 20036.

Synopsis: The Agreement authorizes the parties to exchange space in the trade between the U.S. Gulf Coast and ports in Argentina, Brazil, Colombia, the Dominican Republic, Mexico, Panama and Uruguay. The parties have requested Expedited Review.

Agreement No.: 201252.

Title: Marine Terminal Services Agreement between Port of Houston Authority and Mediterranean Shipping Co. S.A.

Parties: Port of Houston Authority and MSC Mediterranean Shipping Company S.A.

Filing Party: Chasless Yancy; Port of Houston Authority; 111 East Loop North; Houston, TX 77029.

Synopsis: The Agreement sets forth certain discounted rates and charges applicable to MSC's container vessels calling at the Port of Houston Authority's Barbours Cut and Bayport Container Terminals. The Agreement will commence upon filing with the Federal Maritime Commission, and the term of the Agreement is for 10 years following such filing, with an option to jointly agree upon a five-year extension.

Agreement No.: 201253.

Title: Marine Terminal Services Agreement between Port of Houston Authority and Hapag-Lloyd AG.

Parties: Port of Houston Authority and Hapag-Lloyd AG.

Filing Party: Chasless Yancy; Port of Houston Authority; 111 East Loop North; Houston, TX 77029.

Synopsis: The Agreement sets forth certain discounted rates and charges applicable to Hapag-Lloyd's container vessels calling at the Port of Houston Authority's Barbours Cut and Bayport Container Terminals. Hapag Lloyd (America) LLC is the authorized agent for Hapag-Lloyd under the Agreement. The effective date as between the parties is January 18, 2018, with a term of 10 years from the effective date and an option to jointly agree upon a five-year extension.

Agreement No.: 201254.

Title: Sealand/APL-CMA CGM West Coast of Central America Slot Charter Agreement.

Parties: Maersk Line A/S DBA Sealand; APL Co. Pte. Ltd.; American President Lines, ltd.; and CMA CGM S.A.

Filing Party: Wayne Rohde; Cozen O'Connor; 1200 19th Street NW, Washington, DC 20036.

Synopsis: The Agreement authorizes Sealand to charter space to APL and CMA CGM on its WAMS and WCCA services operating between ports in California on the one hand and ports in Mexico, Guatemala, El Salvador, Costa Rica, and Nicaragua on the other hand.

Agreement No.: 201255.

Title: Marine Terminal Services Agreement between the Port of Houston Authority and Evergreen Line Joint Service Agreement D/B/A Evergreen Line.

Parties: Port of Houston Authority and Evergreen Line Joint Service Agreement.

Filing Party: Chasless Yancy; Port of Houston Authority; 111 East Loop North; Houston, TX 77029.

Synopsis: The Agreement sets forth certain discounted rates and charges applicable to Evergreen's container vessels calling at the Port of Houston Authority's Barbours Cut and Bayport Container Terminals. The Agreement will commence upon filing with the Federal Maritime Commission, and the term of the Agreement is for 10 years following such filing, with an option for the Parties to jointly agree upon a five-year extension.

Dated: May 21, 2018.
Rachel E. Dickon,
Secretary.

[FR Doc. 2018-11191 Filed 5-24-18; 8:45 am]

BILLING CODE 6731-AA-P